DEPARTMENT OF THE INTERIOR

Performance Review Board Appointments

AGENCY: Department of the Interior.

ACTION: Notice of Performance Review Board appointments.

SUMMARY: This notice provides the names of individuals who have been appointed to serve as members of the Department of the Interior Performance Review Board.

DATES: Appointments are effective November 4, 2011.

FOR FURTHER INFORMATION CONTACT: Thomas Mulhern, Director, Office of Human Resources, Office of the Secretary, Department of the Interior, 1849 C Street, NW., Washington, DC 20240, Telephone Number: (202) 208-6761.

The members of the Department of the Interior Performance Review Board are as follows:

Name:

Adams, Gail

Archuleta, Deanna

Arroyo, Bryan

Baker, Karen

Barchenger, Ervin

Bathrick, Mark

Bayani, Theresa

Bean, Michael

Berrigan, Michael

Black, Michael

Black, Steven

Blanchard, Mary Josie

Bolton, Hannibal

Brown, Laura

Brown, Robert

Burden, John

Burke, Marcilynn

Burzyk, Carla

Carter-Pfisterer, Carole

Clark, Horace

Connell, Jamie

Cribley, Bud

Cruickshank, Walter

Davis, Mark

Dohner, Cynthia

Eller, Sharon

Ellis, Steven

Faeth, Lorraine

Ferriter, Olivia

Finkler, Kira

Flanagan, Denise

Ford, Jerome

Frazer, Gary

Frost, Herbert

Gary, Arthur

Gillette, Jodi

Glenn, Douglas

Glomb, Stephen

Gonzales-Schreiner, Roseann

Gould, Rowan

Guertin, Stephen

Gundersen, Linda

Haskett, Geoffrey

Haugrud, Kevin

Hawbecker, Karen

Herbst, Lars

Hildebrandt, Betsy

Holland-Bartels, Leslie

Ishee, Mary Katherine

Iudicello, Fay

Jackson, Andrew

Jacobson, Rachel

Keable, Edward

Kimball, Suzette

Kinsinger, Anne

Klein, Allen

Koenigsberg, Melissa

Kornze, Neil

Labelle, Robert

Lane, Kenneth

Lauro, Salvatore

Lillie, Thomas

Lueders, Amy

Malam, Pamela

Mansour, Christopher

Masica, Sue

Mazer, Bernard

More, Robert

Mulhern, Thomas

Nedd, Michael

O'Dell, Margaret

Owens, Glenda

Palma, Juan

Payne, Grayford

Pool, Michael

Pula, Nikolao

Reynolds, Michael

Rountree, Carl

Saito, Irene Teiko

Salotti, Christopher

Scott, Mary Gibson

Shackelton, Stephen

Sheehan, Denise

Shillito, Daniel

Shope, Thomas

Siekaniec, Gregory

Simpson, Jerry

Slack, James

Sobeck, Eileen

Sonderman, Debra

Stevens, Bartholomew

Stevens, Elizabeth

Stith, Melodee

Taylor, Ione

Taylor, Willie

Thorsen, Kimberley

Thorson, Robyn

Triebsch, George

Tschudy, Deborah Gibbs

Tuggle, Benjamin

Vela, Raymond David

Velasco, Janine

Ward, Joseph

Washburn, Julia

Wells, Sandra

Wenk, Daniel

Whitesell, Stephen

Woody, William

Thomas Mulhern,
Director, Office of Human Resources.

[FR Doc. 2011-28468 Filed 11-3-11; 8:45 am]

BILLING CODE 4310-RK-P